GENERAL SERVICES ADMINISTRATION

Maximum Per Diem Rates for the Continental United States (CONUS)

AGENCY: Office of Governmentwide Policy (OGP), General Services Administration (GSA).

ACTION: Notice of Per Diem Bulletin 11-01, Fiscal Year (FY) 2011 Continental United States (CONUS) per diem rates.

SUMMARY: The General Services Administration's (GSA) annual per diem review has resulted in lodging and meal allowance changes for locations within CONUS to provide for the reimbursement of Federal employees' expenses covered by per diem. This Per Diem Bulletin updates the maximum per diem amounts in existing per diem localities and updates the standard CONUS rate. The CONUS per diem rates prescribed in Bulletin 11-01 may be found at http://www.gsa.gov/perdiem. GSA bases the lodging per diem rates on the average daily rate that the lodging industry reports to an independent organization. The use of such data in the per diem rate setting process enhances the government's ability to obtain policy-compliant lodging where it is needed. In conjunction with the annual lodging study, GSA identified five new non-standard areas (NSAs): West Des Moines, Iowa (Dallas County); Queen Anne County, Maryland; Moab, Utah (Grand County); Richland, Washington (Benton County); and Berkeley County, West Virginia.

If a per diem rate is insufficient to meet necessary expenses in any given location, Federal executive agencies can request that GSA review that location. Please review numbers five and six of GSA's per diem Frequently Asked Questions at (http://www.gsa.gov/perdiemfaqs) for more information on the special review process.

In addition, the Federal Travel Regulation allows for actual expense reimbursement as directed in § 301-11.300 through 301-11.306. GSA may begin asking agencies for data related to their use of actual expense approvals; if so, more information will be forthcoming.

DATES: This notice is effective October 1, 2010, and applies for travel performed on or after October 1, 2010 through September 30, 2011.

FOR FURTHER INFORMATION CONTACT: For clarification of content, contact Ms. Jill Denning, Office of Governmentwide Policy, Office of Travel, Transportation, and Asset Management, at (202) 208-7642, or by e-mail at travelpolicy@gsa.gov. Please cite Notice of Per Diem Bulletin 11-01.

SUPPLEMENTARY INFORMATION:

A. Background

After analyzing recent lodging data, GSA determined that lodging rates for certain localities do not adequately reflect the current lodging markets. GSA used the same lodging rate setting methodology for establishing the FY 2011 per diem rates as when establishing the FY 2010 rates.

GSA issues and publishes the CONUS per diem rates, formerly published in Appendix A to 41 CFR Chapter 301, solely on the Internet at http://www.gsa.gov/perdiem. This process, implemented in 2003, ensures more timely changes in per diem rates established by GSA for Federal employees on official travel within CONUS. Notices published periodically in the Federal Register, such as this one, now constitute the only notification of revisions in CONUS per diem rates to agencies.

Dated: August 23, 2010.
Craig Flynn,
Assistant Deputy Associate Administrator.

[FR Doc. 2010-21489 Filed 8-27-10; 8:45 am]

BILLING CODE 6820-14-P